DEPARTMENT OF TRANSPORTATION

Maritime Administration

[Docket No. DOT-MARAD 2015 0094]

Agency Requests for Renewal of a Previously Approved Information Collection(s): Request for Transfer of Ownership, Registry, and Flag, or Charter, Lease, or Mortgage of U.S. Citizen-Owned Documented

AGENCY: Maritime Administration.

ACTION: Notice and request for comments.

SUMMARY: The Maritime Administration (MARAD) invites public comments about our intention to request the Office of Management and Budget (OMB) approval to renew an information collection. The information to be collected will enable MARAD to determine whether the vessel proposed for transfer will initially require retention under the U.S.-flag statutory regulations. We are required to publish this notice in the Federal Register by the Paperwork Reduction Act of 1995, Public Law 104-13.

DATES: Written comments should be submitted by September 28, 2015.

ADDRESSES: You may submit comments [identified by Docket No. DOT-MARAD-200X-XXXX] through one of the following methods:

• Federal eRulemaking Portal: http://www.regulations.gov. Follow the online instructions for submitting comments.

• Fax: 1-202-493-2251.

• Mail or Hand Delivery: Docket Management Facility, U.S. Department of Transportation, 1200 New Jersey Avenue SE., West Building, Room W12-140, Washington, DC 20590, between 9 a.m. and 5 p.m., Monday through Friday, except on Federal holidays.

FOR FURTHER INFORMATION CONTACT: Deveeda Midgett, (202) 366-2354, Office of Sealift Support, U.S. Department of Transportation, 1200 New Jersey Avenue SE., Washington, DC 20590.

SUPPLEMENTARY INFORMATION:

OMB Control Number: 2133-0006.

Title: Request for Transfer of Ownership, Registry, and Flag, or Charter, Lease, or Mortgage of U.S. Citizen-Owned Documented.

Form Numbers: MA-29, MA29A, MA-29B.

Type of Review: Renewal of an information collection.

Background: This collection provides information necessary for MARAD to approve the sale, transfer, charter, lease, or mortgage of U.S. documented vessels to non-citizens; or the transfer of such vessels to foreign registry and flag; or the transfer of foreign flag vessels by their owners as required by various contractual requirements.

Respondents: Respondents are vessel owners who have applied for foreign transfer of U.S.-flag vessels.

Number of Respondents: 85.

Frequency: Annually.

Number of Responses: 85.

Total Annual Burden: 170 Hours.

Public Comments Invited: You are asked to comment on any aspect of this information collection, including (a) whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

Authority: The Paperwork Reduction Act of 1995; 44 U.S.C. Chapter 35, as amended; and 49 CFR 1:93.

By order of the Maritime Administrator.
Dated: July 23, 2015.
T. Mitchell Hudson, Jr.,
Secretary, Maritime Administration.

[FR Doc. 2015-18503 Filed 7-27-15; 8:45 am]

BILLING CODE 4910-81-P